GENERAL SERVICES ADMINISTRATION

48 CFR Part 552

[GSAR-TA-2023-02; Docket No. GSA-GSAR-2023-0014; Sequence No. 1]

General Services Administration Acquisition Regulation (GSAR); Personal Identity Verification Requirements Clause Reference; Correcting Amendment

AGENCY: Office of Acquisition Policy, General Services Administration (GSA).

ACTION: Correcting amendment.

SUMMARY: The General Services Administration published GSAR-TA-2023-02, Technical Amendment in the Federal Register on May 19, 2023. There was an error in the amendatory instruction 2, and the amendment couldn't be incorporated. GSA is publishing this new document to correct the error.

DATES: Effective May 26, 2023.

FOR FURTHER INFORMATION CONTACT: For clarification of content, contact Mr. Clarence Harrison at GSARPolicy@gsa.gov or 202-227-7051. For information pertaining to status or publication schedules, contact the Regulatory Secretariat Division at GSARegSec@gsa.gov or 202-501-4755.

SUPPLEMENTARY INFORMATION: In rule FR Dec. 2023-10669, published in the Federal Register at 88 FR 32142, on May 19, 2023, amendatory instruction 2 for GSAR 552.204-9 incorrectly referenced paragraph (b) when the web link is actually in paragraph (a). This correcting amendment fixes the error.

List of Subjects in 48 CFR Part 552

Government procurement.

Therefore, GSA amends 48 CFR part 552 by making the following correcting amendment:

PART 552—SOLICITATION PROVISIONS AND CONTRACT CLAUSES

1. The authority citation for 48 CFR part 552 continues to read as follows:

Authority: 40 U.S.C. 121(c).

552.204-9 [Amended]

2. Amend section 552.204-9 in paragraph (a) of the clause by removing the web link “https://www.gsa.gov/hspd12” and adding “https://www.gsa.gov/resources/for-federal-employees/access-gsa-facilities-and-systems-with-a-piv-card” in its place.

Jeffrey A. Koses,
Senior Procurement Executive, Office of Acquisition Policy, Office of Government-wide Policy, General Services Administration.

[FR Doc. 2023-11249 Filed 5-25-23; 8:45 am]

BILLING CODE 6820-61-P